DEPARTMENT OF COMMERCE

National Oceanic and Atmospheric Administration

RIN 0648-XE308

Fisheries of the Northeastern United States; Northeast Multispecies Fishery Management Plan; Notice of Intent To Prepare an Environmental Impact Statement; Scoping Process; Request for Comments; Extension of Comment Period

AGENCY: National Marine Fisheries Service (NMFS), National Oceanic and Atmospheric Administration (NOAA), Commerce.

ACTION: Notice; intent to prepare an environmental impact statement and initiate scoping process; request for comments; extension of comment period and announcement of additional public hearing.

SUMMARY: In the Notice of Intent (NOI) that published on Monday, November 23, 2015, the Council and NMFS announced the intention to prepare an environmental impact statement in accordance with the National Environmental Policy Act. This notice is to alert the interested public of an additional public hearing and to extend the written comment period from January 7, 2016, to January 20, 2016, to ensure adequate time for the public to comment on the NOI.

DATES: The deadline for written and electronic scoping comments on the NOI published on November 23, 2015 (80 FR 72951) is extended to January 20, 2016, by 5 p.m., local time.

ADDRESSES: Written scoping comments on Amendment 22 may be sent by any of the following methods:

• Email to the following address: comments@nefmc.org;

• Mail to Thomas A. Nies, Executive Director, New England Fishery Management Council, 50 Water Street, Mill 2, Newburyport, MA 01950; or

• Fax to (978) 465-3116.

Requests for copies of the Amendment 22 scoping document and other information should be directed to Thomas A. Nies, Executive Director, New England Fishery Management Council, 50 Water Street, Mill 2, Newburyport, MA 01950, telephone (978) 465-0492. The scoping document is accessible electronically via the Internet at http://s3.amazonaws.com/nefmc.org/a-22-whiting-Scoping-document-4.pdf.

FOR FURTHER INFORMATION CONTACT: Thomas Nies, Executive Director, New England Fishery Management Council; telephone: (978) 465-0492.

SUPPLEMENTARY INFORMATION:

Extension of Comment Period

On November 23, 2015, NMFS published an NOI (80 FR 72951) with a comment period ending on January 7, 2016. The comment period is being extended to January 20, 2016, to allow the public additional time to comment.

Additional Public Hearing

The Council will take and discuss scoping comments on this amendment at an additional public meeting:

1. Wednesday, January 20, 2016, at 6:00 p.m. Hampton Inn, 2100 Post Road, Warwick, RI 02886; (401) 739-8888.

Special Accommodations

This meeting is accessible to people with physical disabilities. Requests for sign language interpretation or other auxiliary aids should be directed to Thomas A. Nies (see ADDRESSES) at least five days prior to this meeting date.

Authority: 16 U.S.C. 1801 et seq.

Dated: December 22, 2015.
Alan D. Risenhoover,
Director, Office of Sustainable Fisheries, National Marine Fisheries Service.

[FR Doc. 2015-32668 Filed 12-28-15; 8:45 am]

BILLING CODE 3510-22-P